DEPARTMENT OF THE INTERIOR

National Park Service

[NPS-WASO-NAGPRA-23717; PPWOCRADN0-PCU00RP14.R50000]

Notice of Inventory Completion: Arkansas State Highway and Transportation Department, Little Rock, AR

AGENCY: National Park Service, Interior.

ACTION: Notice.

SUMMARY: The Arkansas State Highway and Transportation Department has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Arkansas State Highway and Transportation Department. If no additional requestors come forward, transfer of control of the human remains to the Indian tribes or Native Hawaiian organizations stated in this notice may proceed.

DATES: Representatives of any Indian tribe or Native Hawaiian organization not identified in this notice that wish to request transfer of control of these human remains should submit a written request with information in support of the request to the Arkansas State Highway and Transportation Department at the address in this notice by September 21, 2017.

ADDRESSES: Kristina Boykin, Arkansas State Highway and Transportation Department, P.O. Box 2261, Little Rock, AR 72203, telephone (501) 569-2079, email Kristina.Boykin@ahtd.AR.gov.

SUPPLEMENTARY INFORMATION: Notice is here given in accordance with the Native American Graves Protection and Repatriation Act (NAGPRA), 25 U.S.C. 3003, of the completion of an inventory of human remains under the control of the Arkansas State Highway and Transportation Department. The human remains were removed from a salvage operation in Randolph County, AR.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

History and Description of the Remains

In 1888, human remains representing, at minimum, two individuals were recovered from site 3RA387 in Randolph County, AR. The human remains were discovered during a salvage operation of site 3RA387 as part of the re-routing of Highway 304. Excavations were undertaken by the Arkansas State Highway and Transportation Department. Currently, the remains are being stored at the Arkansas Archeological Survey's curation facility. The gender and age of the human remains were undetermined. No known individuals were identified. No associated funerary objects are present. No diagnostic artifacts were found at site 3RA387 to indicate when these human remains were buried. The cultural and temporal identity of these human remains is difficult to discern and they cannot be clearly culturally affiliated with an Indian tribe.

Determinations Made by the Arkansas State Highway and Transportation Department

Officials of the Arkansas State Highway and Transportation Department have determined that:

• Pursuant to 25 U.S.C. 3001(9), the human remains described in this notice represent the physical remains of two individuals of Native American ancestry.

• Pursuant to 25 U.S.C. 3001(2), a relationship of shared group identity cannot be reasonably traced between the Native American human remains and any present-day Indian tribe.

• Treaties, Acts of Congress, or Executive Orders, indicate that the land from which the Native American human remains were removed is the aboriginal land of The Osage Nation (previously listed as the Osage Tribe).

• Pursuant to 43 CFR 10.11(c)(1), the disposition of the human remains may be to The Osage Nation (previously listed as the Osage Tribe).

Additional Requestors and Disposition

Representatives of any Indian tribe or Native Hawaiian organization not identified in this notice that wish to request transfer of control of these human remains should submit a written request with information in support of the request to Kristina Boykin, Arkansas State Highway and Transportation Department, P.O. Box 2261, Little Rock, AR 72203, telephone (501) 569-2079, email Kristina.Boykin@ahtd.AR.gov, by September 21, 2017. After that date, if no additional requestors have come forward, transfer of control of the human remains to The Osage Nation (previously listed as the Osage Tribe) may proceed.

The Arkansas State Highway and Transportation Department is responsible for notifying The Osage Nation (previously listed as the Osage Tribe) that this notice has been published.

Dated: July 6, 2017.
Melanie O'Brien,
Manager, National NAGPRA Program.

[FR Doc. 2017-17646 Filed 8-21-17; 8:45 am]

BILLING CODE 4312-52-P